SMALL BUSINESS ADMINISTRATION

[Declaration of Disaster #3245]

State of West Virginia

As a result of the President's major disaster declaration on February 28, 2000, and an amendment thereto on the same date, I find that the following counties in the State of West Virginia constitute a disaster area due to damages caused by flooding, severe storms, and landslides beginning on February 18, 2000 and continuing: Barbour, Braxton, Cabell, Calhoun, Doddridge, Gilmer, Harrison, Jackson, Kanawha, Lewis, Lincoln, Marion, Mason, Monongalia, Putnam, Ritchie, Roane, Tyler, Upshur, Wetzel, and Wirt. Applications for loans for physical damage as a result of this disaster may be filed until the close of business on April 28, 2000, and for loans for economic injury until the close of business on November 28, 2000 at the address listed below or other locally announced locations: U.S. Small Business Administration, Disaster Area 1 Office 360 Rainbow Blvd., South, 3rd Floor, Niagara Falls, NY 14303.

In addition, applications for economic injury loans from small businesses located in the following contiguous counties may be filed until the specified date at the above location: Boone, Clay, Fayette, Logan, Marshall, Mingo, Nicholas, Pleasants, Preston, Raleigh, Randolph, Taylor, Tucker, Wayne, Webster, and Wood Counties in West Virginia; Gallia, Lawrence, Meigs, Monroe, and Washington Counties in Ohio; and Fayette and Greene Counties in Pennsylvania.

The interest rates are:

| Percent
For Physical Damage:
HOMEOWNERS WITH CREDIT AVAILABLE ELSEWHERE | 7.625
HOMEOWNERS WITHOUT CREDIT AVAILABLE ELSEWHERE | 3.812
BUSINESSES WITH CREDIT AVAILABLE ELSEWHERE | 8.000
BUSINESSES AND NON-PROFIT ORGANIZATIONS WITHOUT CREDIT AVAILABLE ELSEWHERE | 4.000
OTHERS (INCLUDING NON-PROFIT ORGANIZATIONS) WITH CREDIT AVAILABLE ELSEWHERE | 6.750
For Economic Injury:
BUSINESSES AND SMALL AGRICULTURAL COOPERATIVES WITHOUT CREDIT AVAILABLE ELSEWHERE | 4.000

The number assigned to this disaster for physical damage is 324506. For economic injury the numbers are 9G8000 for West Virginia, 9G8100 for Ohio, and 9G8200 for Pennsylvania.

(Catalog of Federal Domestic Assistance Program Nos. 59002 and 59008)
Dated: March 2, 2000.
Herbert L. Mitchell,
Acting Associate Administrator for Disaster Assistance.

[FR Doc. 00-6350 Filed 3-14-00; 8:45 am]

BILLING CODE 8025-01-P